DEPARTMENT OF HEALTH AND HUMAN SERVICES

Administration for Children and Families

Submission for Office of Management and Budget Review; Formative Data Collections for ACF Research and Evaluation (OMB #0970-0356)

AGENCY: Office of Planning, Research, and Evaluation, Administration for Children and Families, U.S. Department of Health and Human Services.

ACTION: Request for public comments.

SUMMARY: The Administration for Children and Families (ACF) proposes to extend data collection under the existing overarching generic clearance for Formative Data Collections for ACF Research and Evaluation (Office of Management and Budget (OMB) #0970-0356). There are no changes proposed to the terms of the overarching generic.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: ACF programs promote the economic and social well-being of families, children, individuals, and communities. The Office of Planning, Research, and Evaluation (OPRE) studies ACF programs, and the populations they serve, through rigorous research and evaluation projects. These include evaluations of existing programs, evaluations of innovative approaches to helping low-income children and families, research syntheses, and descriptive and exploratory studies. OPRE's research offers further understanding of current programs and service populations, explores options for program improvement, and assesses alternative policy and program designs. OPRE anticipates undertaking a variety of new research projects related to welfare, employment and self-sufficiency, Head Start, child care, healthy marriage and responsible fatherhood, family and youth services, home visiting, child welfare, trafficking, community services, and other areas of interest to ACF. Some ACF program offices conduct their own research and evaluation projects and may utilize this generic.

Under this generic clearance, ACF engages in a variety of formative data collections with researchers, practitioners, technical assistance providers, service providers, and potential participants throughout the field to fulfill the following goals: (1) inform the development of ACF research, (2) maintain a research agenda that is rigorous and relevant, (3) ensure that research products are as current as possible, and (4) inform the provision of technical assistance and supports around research and evaluation. ACF envisions using a variety of techniques including semi-structured discussions, focus groups, surveys, and telephone or in-person interviews, in order to reach these goals.

Information collected under this overarching generic is meant to inform ACF research activities and may be incorporated into documents or presentations that are made public. The following are some examples of ways in which we may share information resulting from these data collections: research design documents or reports; research or technical assistance plans; background materials for technical workgroups; concept maps, process maps, or conceptual frameworks; contextualization of research findings from a follow-up data collection that has full PRA approval; informational reports to TA providers; or project specific reports, or other documents relevant to the field, such as federal leadership and staff, grantees, local implementing agencies.

Following standard OMB requirements, ACF has and will continue to submit to OMB information about individual information collection activities proposed under the generic clearance. ACF will provide OMB with a copy of the individual instruments or questionnaires, as well as other materials describing the project. ACF requests OMB's review within 10 days of submission of individual requests under this generic.

Respondents: Respondents could include key groups involved in ACF projects and programs, state or local government officials, service providers, participants in ACF programs or similar comparison groups, experts in fields pertaining to ACF research and programs, or others involved in conducting ACF research or evaluation projects.

Burden Estimates

Find currently approved information collections here: https://www.reginfo.gov/public/do/PRAOMBHistory?ombControlNumber=0970-0356. The request to OMB will include an extension request for approved information collections that are planned to continue beyond November 2023.

Burden Estimates—Ongoing Requests
Study | Responses | Burden hours
Fatherhood Family-Focused, Interconnected, Resilient, and Essential (Fatherhood FIRE) Grantee Local Evaluation Plan Template * Burden updated from current approval | 861 | 980
Child Welfare Study to Enhance Equity with Data (CW-SEED) | 100 | 100
Culture of Continuous Learning Project: Landscape Survey | 546 | 182
Preliminary Activities to Support Future Data Collection for the National Survey of Child and Adolescent Well-Being (NSCAW) | 110 | 110
Soliciting Input for the Consumer Education and Parental Choice in Early Care and Education Project | 428 | 107
Title IV-E Prevention Services Clearinghouse | 71 | 88
Family Self-Sufficiency Demonstration Development Grants Evaluation Support: Data Collection for Final Report | 200 | 114
Totals | 2,316 | 1,681

Burden Estimates—New Requests
Instrument | Number of respondents (total over request period) | Number of responses per respondent (total over request period) | Avg. burden per response (in hours) | Total burden (in hours)
Semi-Structured Discussions and Focus Groups | 3000 | 1 | 2 | 6000
Interviews | 1500 | 1 | 1 | 1500
Questionnaires/Surveys | 1125 | 1 | .5 | 563
Total |  |  |  | 8,063

Mary B. Jones,
ACF/OPRE Certifying Officer.

[FR Doc. 2023-27431 Filed 12-13-23; 8:45 am]

BILLING CODE 4184-88-P